DEPARTMENT OF JUSTICE

[AAG/A Order No. 002-2005]

Privacy Act of 1974; Notice of New System of Records

Pursuant to the provisions of the Privacy Act of 1974, 5 U.S.C. 552a, notice is given that the Department of Justice proposes to establish a new Departmentwide system of records entitled, “Department of Justice Regional Data Exchange System (RDEX)” DOJ-012. This new system of records consists of unclassified criminal law enforcement records collected and produced by the following Department of Justice components: the Federal Bureau of Prisons; the United States Marshals Service; and the State of Washington field offices of the Bureau of Alcohol, Tobacco, Firearms, and Explosives, the Drug Enforcement Administration, and the Federal Bureau of Investigation. This information is being contributed to and maintained in this system as part of the Department of Justice's Law Enforcement Information Sharing Program (LEISP). A principal purpose of LEISP is to ensure that Department of Justice criminal law enforcement information is available for users at all levels of government so that they can more effectively investigate, disrupt, and deter criminal activity, including terrorism, and protect the national security. RDEX furthers this purpose by consolidating certain law enforcement information from other Department of Justice systems in order that it may more readily be available for sharing with other law enforcement entities. As an initial pilot program, RDEX will serve as a technical interface between the Department and federal, state, and local members of the Northwest Law Enforcement Information Exchange, which is a regional law enforcement information sharing system. Because this system consists of information from other existing Department of Justice systems, the routine uses applicable to this system are substantially the same as those that apply to those systems and that have previously been published by the individual Department of Justice components that contributed the information.

In accordance with 5 U.S.C. 552a(e)(4) and (11), the public is given a 30-day period in which to comment; and the Office of Management and Budget (OMB), which has oversight responsibility under the Privacy Act, requires a 40-day period in which to conclude its review of the system. Therefore, please submit any comments by August 10, 2005. The public, OMB, and Congress are invited to submit any comments to Mary E. Cahill, Management Analyst, Management and Planning Staff, Justice Management Division, United States Department of Justice, Washington, DC, 20530-0001 (Room 1400, National Place Building).

In accordance with 5 U.S.C. 552a(r), the Department has provided a report of this new system of records to OMB and Congress.

Dated: June 30, 2005.
Paul R. Corts,
Assistant Attorney General for Administration.

DOJ-012

System Name:

Department of Justice Regional Data Exchange System (RDEX)

Security Classification:

Unclassified.

System Location:

United States Department of Justice, 950 Pennsylvania Ave., NW., Washington, DC 20530-0001, and other Department of Justice offices throughout the country.

Categories of Individuals Covered By the System:

Individuals covered by this system include all individuals who are referred to in potential or actual cases or matters of concern to the Federal Bureau of Prisons (BOP); the United States Marshals Service (USMS); and the State of Washington field offices of the Bureau of Alcohol, Tobacco, Firearms, and Explosives (ATF), the Drug Enforcement Administration (DEA), and the Federal Bureau of Investigation (FBI). Because the system contains audit logs regarding queries, individuals who use the system to conduct such queries are also covered.

Categories of Records in the System:

The system consists of unclassified criminal law enforcement records collected and produced by the BOP; the USMS; and the State of Washington field offices of the ATF, DEA, and FBI; including: investigative reports and witness interviews from both open and closed cases; criminal event data (e.g., characteristics of criminal activities and incidents that identify links or patterns); criminal history information (e.g., history of arrests, nature and disposition of criminal charges, sentencing, confinement, and release); and identifying information about criminal offenders (e.g., name, address, date of birth, birthplace, physical description). The system also consists of audit logs that contain information regarding queries made of the system.

Authority for Maintenance of the System:

The system was established and is maintained pursuant to 28 U.S.C. 533 and 534; Presidential Decision Directives 39 and 62; and Executive Order 13,356.

Purpose of the System:

This system is maintained for the purpose of ensuring that Department of Justice criminal law enforcement information is available for users at all levels of government so that they can more effectively investigate, disrupt, and deter criminal activity, including terrorism, and protect the national security. RDEX furthers this purpose by consolidating certain law enforcement information from other Department of Justice systems in order that it may more readily be available for sharing with other law enforcement entities.

Routine Uses of Records Maintained in the System, Including Categories of Users and the Purposes of Such Uses:

Information may be disclosed from this system as follows:

(1) To any criminal, civil, or regulatory law enforcement authority (whether federal, state, local, territorial, tribal, or foreign) where the information is relevant to the recipient entity's law enforcement responsibilities.

(2) To a governmental entity lawfully engaged in collecting criminal law enforcement, criminal law enforcement intelligence, or national security intelligence information for law enforcement or intelligence purposes.

(3) To contractors, grantees, experts, consultants, students, and others performing or working on a contract, service, grant, cooperative agreement, or other assignment for the Federal Government, when necessary to accomplish an agency function related to this system of records.

(4) In an appropriate proceeding before a court, or administrative or adjudicative body, when the Department of Justice determines that the records are arguably relevant to the proceeding; or in an appropriate proceeding before an administrative or adjudicative body when the adjudicator determines the records to be relevant to the proceeding.

(5) To an actual or potential party to litigation or the party's authorized representative for the purpose of negotiation or discussion of such matters as settlement, plea bargaining, or in informal discovery proceedings.

(6) To the news media and the public pursuant to 28 CFR 50.2 unless it is determined that release of the specific information in the context of a particular case would constitute an unwarranted invasion of personal privacy.

(7) To the National Archives and Records Administration for purposes of records management inspections conducted under the authority of 44 U.S.C. 2904 and 2906.

(8) To a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

(9) To such recipients and under such circumstances and procedures as are mandated by federal statute or treaty.

(10) To complainants and/or victims to the extent necessary to provide such persons with information and explanations concerning the progress and/or results of the investigation or case arising from the matters of which they complained and/or of which they were a victim.

(11) To a Member of Congress or staff acting upon the Member's behalf when the Member or staff requests the information on behalf of, and at the request of, the individual who is the subject of the record.

(12) To any person or entity if deemed by the Department to be necessary in order to elicit information or cooperation from the recipient for use by the Department in the performance of an authorized law enforcement activity.

(13) To any individual, organization, or governmental entity in order to notify them of a serious terrorist threat for the purpose of guarding against or responding to such a threat.

Disclosure To Consumer Reporting Agencies:

None.

Policies and Practices for Storing, Retrieving, Accessing, Retaining, and Disposing of Records in the System: Storage:

Records in this system are stored primarily in electronic form. However, some information may also be stored in paper form.

Retrievability:

Records are retrieved by the name and/or other identifier(s) of the individual.

Safeguards:

Information in this system is safeguarded in accordance with applicable laws, rules, and policies, including the Department's automated systems security and access policies. Records and technical equipment are maintained in buildings with restricted access. Passwords, password protection identification features, and other system protection methods also restrict access to information in this system. Only Department of Justice personnel and other users who are members of law enforcement agencies, have undergone background and criminal history checks, and have received appropriate training will be permitted access to the system; and such access is limited to those who have an official need for access in order to perform their duties.

Retention and Disposal:

Records in this system in all formats are maintained and disposed of in accordance with appropriate authority of the National Archives and Records Administration.

System Managers and Addresses:

For the RDEX system generally: Chief Information Officer, Office of the Chief Information Officer, Justice Management Division, United States Department of Justice, 950 Pennsylvania Avenue, NW., Washington, DC 20530.

For ATF information: Associate Director, Office of Strategic Intelligence and Information, Bureau of Alcohol, Tobacco, Firearms and Explosives, 650 Massachusetts Avenue, NW., Washington, DC 20226.

For BOP information: Assistant Director, Correctional Programs Division, Federal Bureau of Prisons, 320 First Street, NW., Washington, DC 20534.

For DEA information: Assistant Administrator, Operations Division, Drug Enforcement Administration, Freedom of Information Section, Washington, DC 20537.

For FBI information: Director, Federal Bureau of Investigation, 935 Pennsylvania Avenue, NW., Washington, DC 20535.

For USMS information: Assistant Director, Investigative Services Division, United States Marshals Service, Washington, DC 20530-1000.

Notification Procedures:

Same as Record Access Procedures.

Record Access Procedures:

Requests for access may be made by appearing in person or by writing to the appropriate system manager at the address indicated in the System Managers and Addresses section, above. The envelope and letter should be clearly marked “Privacy Act Request.” The request should include a general description of the records sought and must include the requester's full name, current address, and date and place of birth. The request must be signed and either notarized or submitted under penalty of perjury. Some information may be exempt from access as described in the section entitled “Exemptions Claimed for the System.” An individual who is the subject of a record in this system may access those records that are not exempt from disclosure. A determination of whether a record may be accessed will be made after a request is received.

Although no specific form is required, forms may be obtained for this purpose from the FOIA/PA Mail Referral Unit, Justice Management Division, United States Department of Justice, 950 Pennsylvania Avenue, NW., Washington, DC 20530-0001, or on the Department of Justice Web site at http://www.usdoj.gov/04foia/att_d.htm.

Contesting Record Procedures:

Individuals seeking to contest or amend information maintained in the system should direct their requests to the appropriate system manager at the address indicated in the System Managers and Addresses section, above, stating clearly and concisely what information is being contested, the reasons for contesting it, and the proposed amendment to the information sought. Some information may be exempt from contesting record procedures as described in the section entitled “Exemptions Claimed for the System.” An individual who is the subject of a record in this system may seek amendment of any records that are not exempt. A determination of whether a record is exempt from amendment will be made after a request is received.

Record Source Categories:

Records in RDEX come directly from the criminal law enforcement files and records systems of the participating Department of Justice components (ATF, BOP, DEA, FBI, and USMS).

Exemptions Claimed for the System:

The Attorney General has exempted this system from subsections (c)(3) and (4); (d)(1), (2), (3), and (4); (e)(1), (2), (3), (5), and (8); and (g) of the Privacy Act pursuant to 5 U.S.C. 552a(j)(2). These exemptions apply only to the extent that information in the system is subject to exemption pursuant to 5 U.S.C. 552a(j)(2). Rules have been promulgated in accordance with the requirements of 5 U.S.C. 553(b), (c), and (e), and are published in today's Federal Register.

[FR Doc. 05-13552 Filed 7-8-05; 8:45 am]

BILLING CODE 4410-FB-P